DEPARTMENT OF COMMERCE

National Oceanic and Atmospheric Administration

50 CFR Part 300

[Docket No. 180202124-8124-01]

RIN 0648-BH59

International Fisheries; Eastern Pacific Tuna Fisheries; Western and Central Pacific Fisheries for Highly Migratory Species; Area of Overlap Between the Convention Areas of the Inter-American Tropical Tuna Commission and the Western and Central Pacific Fisheries Commission

AGENCY: National Marine Fisheries Service (NMFS), National Oceanic and Atmospheric Administration (NOAA), Commerce.

ACTION: Advance notice of proposed rulemaking; request for comments.

SUMMARY: NMFS is considering whether to continue, or to revise, the management regime for fishing vessels that target tuna and other highly migratory fish species (HMS) in the area of overlapping jurisdiction between the Inter-American Tropical Tuna Commission (IATTC) and the Commission for the Conservation and Management of Highly Migratory Fish Stocks in the Western and Central Pacific Ocean (WCPFC) in the tropical Pacific Ocean. To that end, we are issuing this advance notice of proposed rulemaking to seek public input about whether U.S. fishing vessels fishing in that area should be governed by conservation measures adopted by IATTC or conservation measures adopted by WCPFC.

DATES: Comments on this advance notice of proposed rulemaking must be submitted in writing by July 12, 2018.

ADDRESSES: You may submit comments on this document, identified by NOAA-NMFS-2018-0049, by any of the following methods:

• Electronic submission: Submit all electronic public comments via the Federal e-Rulemaking Portal. Go to www.regulations.gov/#!docketDetail;D=NOAA-NMFS-2018-0049, click the “Comment Now!” icon, complete the required fields, and enter or attach your comments.

• Mail: Submit written comments to Michael D. Tosatto, Regional Administrator, NMFS, Pacific Islands Regional Office, 1845 Wasp Blvd., Building 176, Honolulu, HI 96818.

• Fax: (808) 725-5215; Attn: Michael D. Tosatto, Regional Administrator, NMFS, Pacific Islands Regional Office.

Instructions: Comments sent by any other method, to any other address or individual, or received after the end of the comment period, might not be considered by NMFS. All comments received are a part of the public record and will generally be posted for public viewing on www.regulations.gov without change. All personal identifying information (e.g., name and address), confidential business information, or otherwise sensitive information submitted voluntarily by the sender will be publicly accessible. NMFS will accept anonymous comments (enter “N/A” in the required fields if you wish to remain anonymous).

SUPPLEMENTARY INFORMATION:

Background

The United States is a member of both the IATTC and WCPFC. The convention areas for the IATTC and WCPFC overlap in the Pacific Ocean waters within a rectangular area bounded by 50° S latitude, 150° W longitude, 130° W longitude, and 4° S latitude (“overlap area”). Historically, regulations implementing the conservation measures adopted by the IATTC (see 50 CFR part 300, subpart C) and the WCPFC (see 50 CFR part 300, subpart O) both applied to U.S. vessels fishing for HMS in the overlap area. In 2012, the IATTC and the WCPFC adopted recommendations/decisions that provide that each member belonging to both commissions is to decide, for a period of not less than 3 years, whether IATTC or WCPFC conservation and management measures will apply to vessels of that member listed in both WCPFC Record of Fishing Vessels (record) and IATTC Regional Vessel Register List (register) while fishing in the overlap area.

In accordance with the WCPFC decision and IATTC recommendation regarding the overlap area, NMFS issued a final rule on April 26, 2016 (see 81 FR 24501, effective May 26, 2016; hereafter “2016 final rule”), excluding the overlap area from the description of the IATTC Convention Area for the purpose of the regulations implementing conservation measures of the IATTC (50 CFR part 300, subpart C), except that IATTC Regional Vessel Register regulations at 50 CFR 300.22(b) continue to apply in the overlap area. Under the 2016 final rule regulations implementing conservation measures of the WCPFC continue to apply in the overlap area to vessels of all gear types listed in both WCPFC record and IATTC register. The requirement for U.S. vessels that fish for tuna and other HMS to be listed on the IATTC Regional Vessel Register continues to apply in the overlap area because the IATTC Regional Vessel Register is used to implement the Agreement on the International Dolphin Conservation Program (AIDCP), which is a separate international agreement that applies to purse seine vessels that fish in the eastern Pacific, including the overlap area. The AIDCP has not adopted a decision that would allow the United States to exempt vessels from AIDCP requirements even if only WCPFC requirements apply in the overlap area.

Before the 2016 final rule was issued, NMFS evaluated the expected impacts of the rule by reviewing fishing activity in the overlap area and concluded that U.S. vessels did not often fish for HMS in the overlap area. The rule simplified regulations for U.S. vessels fishing in the area because, aside from the IATTC Regional Vessel Register requirements, affected vessels would be required to follow only the measures of the WCPFC rather than those of both the WCPFC and the IATTC.

Advance Notice of Proposed Rulemaking

NMFS implements decisions of the WCPFC under the authority of the Western and Central Pacific Fisheries Convention Implementation Act (16 U.S.C. 6901 et seq.), and decisions of the IATTC under the authority of the Tuna Conventions Act (16 U.S.C. 951 et seq.). In the preamble to the 2016 final rule, NMFS indicated that within the next 3 years, it may reevaluate the spatial distribution of fishing effort by U.S. fishing vessels fishing under the IATTC and WCPFC Conventions, especially with respect to the differences and similarities between fishing in the eastern Pacific Ocean (EPO) and the western and central Pacific Ocean (WCPO).

NMFS seeks to better understand the effects of the 2016 final rule and the potential effects of applying the IATTC versus the WCPFC management measures for the overlap area. NMFS is interested in public comment on whether and, if so, how fishing effort by U.S. vessels fishing under the IATTC and WCPFC convention areas has changed since the 2016 final rule was issued and whether and how fishing effort might change in the foreseeable future. NMFS is interested in receiving any information, including but not limited to the impacts of the 2016 final rule on the fishing patterns of U.S.-flagged fishing vessels, their costs of fishing, the expected locations of fishing grounds in the foreseeable future, particularly with respect to the WCPO versus the EPO, and the expected costs to U.S. fishing businesses of applying IATTC versus WCPFC management measures to the overlap area.

This advance notice of proposed rulemaking solicits information from the public that would be useful in evaluating the effects of the IATTC versus the WCPFC management measures for the overlap area. If warranted by the findings of this examination, NMFS may propose re-applying IATTC management measures in the overlap area while removing WCPFC management measures.

Classification

This advance notice of proposed rulemaking has been determined to be not significant for the purposes of Executive Order 12866.

Authority: 16 U.S.C. 6901 et seq., 16 U.S.C. 951 et seq.

Dated: June 6, 2018.
Samuel D. Rauch, III,
Deputy Assistant Administrator for Regulatory Programs, National Marine Fisheries Service.

[FR Doc. 2018-12554 Filed 6-11-18; 8:45 am]

BILLING CODE 3510-22-P